DEPARTMENT OF COMMERCE

Submission for OMB Review; Comment Request

The Department of Commerce will submit to the Office of Management and Budget (OMB) for clearance the following proposal for collection of information under the provisions of the Paperwork Reduction Act (44 U.S.C. Chapter 35).

Agency: Bureau of Economic Analysis.

Title: Quarterly Survey of Financial Services Transactions between U.S. Financial Services Providers and Foreign Persons.

OMB Control Number: 0608-0065.

Form Number(s): BE-185.

Type of Request: Extension of a currently approved collection.

Burden Hours: 22,500.

Number of Respondents: 2,700.

Average Hours per Response: 10 hours for mandatory response and 1 hour for other responses.

Needs and Uses: The data are needed to monitor U.S. international trade in financial services, analyze its impact on the U.S. and foreign economies, compile and improve the U.S. economic accounts, support U.S. commercial policy on trade in financial services, conduct trade promotion, and improve the ability of U.S. businesses to identify and evaluate market opportunities.

Affected Public: Businesses or other for-profit organizations; non-profit organizations; and state, local, and tribal governments.

Frequency: Quarterly.

Respondents' Obligation: Mandatory.

Legal Authority: Title 22 U.S.C., Sections 3101-3108, as amended and Section 5408 of the Omnibus Trade and Competitiveness Act of 1988.

OMB Desk Officer: Paul Bugg, (202) 395-3093.

Copies of the above information collection proposal can be obtained by writing Jennifer Jessup, Departmental Paperwork Clearance Officer, Department of Commerce, Room 6616, 14th and Constitution Avenue NW., Washington, DC 20230 or via the Internet at jjessup@doc.gov.

Send comments on the proposed information collection within 30 days of publication of this notice to Paul Bugg, OMB Desk Officer, via email at pbugg@omb.eop.gov or by fax at (202) 395-7245.

Dated: August 15, 2012.
Glenna Mickelson,
Management Analyst, Office of Chief Information Officer.

[FR Doc. 2012-20382 Filed 8-17-12; 8:45 am]

BILLING CODE 3510-06-P